DEPARTMENT OF VETERANS AFFAIRS

Veterans' Advisory Committee on Education, Notice of Charter Renewal

This gives notice under the Federal Advisory Committee Act (Public Law 92-463) of October 6, 1972, that the Veterans' Advisory Committee on Education has been renewed for a 2-year period beginning November 14, 2000, through November 14, 2002.

Dated: November 17, 2000.
By direction of the Acting Secretary.
Marvin R. Eason,
Committee Management Officer.

[FR Doc. 00-30297 Filed 11-27-00; 8:45 am]

BILLING CODE 8320-01-M